DEPARTMENT OF THE INTERIOR

National Park Service

Final Environmental Impact Statement; Yosemite Institute Environmental Education Campus; Yosemite National Park; Mariposa and Tuolumne Counties, CA; Notice of Availability

SUMMARY: Pursuant to § 102(2)(C) of the National Environmental Policy Act of 1969 (Pub. L. 91-190, as amended), and the Council on Environmental Quality Regulations (40 CFR part 1500-1508), the Department of the Interior, National Park Service, has prepared a Final Environmental Impact Statement (Final EIS) identifying and evaluating three alternatives for redeveloping the Yosemite Institute Environmental Education Campus in Yosemite National Park, California. Yosemite Institute (YI) is a non-profit park partner which has provided environmental education in Yosemite since 1971, and since 1973 has been based at the former Civilian Conservation Corps (CCC) camp at Crane Flat. The Final EIS for the proposed new campus identifies and analyzes two “action” alternatives and a “no-action” alternative. The full spectrums of foreseeable environmental consequences are assessed and suitable mitigation strategies are considered; an “environmentally preferred” course of action is also identified. Concurrently, completion of the EIS process will fulfill public review requirements of § 106 of the National Historic Preservation Act.

Range of Alternatives: Under Alternative 1 (No Action), there would be no change in the environmental education program, location, or conditions at the Crane Flat campus. Necessary maintenance and repairs would continue, but no major improvements, rehabilitation of facilities, or construction of new buildings would occur. There would be no change in the number of overnight accommodations at Crane Flat (76 student bunks and 8 staff beds). The overall number of students in the park per session would remain the same (approximately 360), with the majority of students (approximately 285) in commercial lodging in Yosemite Valley.

Under both “action” alternatives, energy-efficient, sustainable facilities would be constructed to accommodate more students in a campus conducive to learning to better meet educational purposes, and designed to blend into the historic park setting. These improvements would provide a safe, supervised campus environment, extending more opportunities for young children from diverse backgrounds to experience and enjoy their national park. New facilities would achieve modem standards for fire, health, safety, and accessibility.

Under Alternative 2, the Crane Flat campus would be redeveloped, doubling its capacity (to 154 students, 14 staff), and reducing reliance upon commercial lodging in Yosemite Valley (by approximately 80 beds). The new campus would be reconstructed largely in its existing location (shifted away from the meadow). Most existing buildings would be removed and replaced (two historic Civilian Conservation Corps (CCC) structures would be retained). Utilities would be upgraded to conserve water and meet additional capacity. New facilities would achieve modem standards for fire, health, safety, and accessibility.

A third alternative, to create a new campus in a different location, was developed in response to public input and new data illuminating unique and highly sensitive environmental resources at Crane Flat. Under Alternative 3, (environmentally and agency-preferred) a new campus would be created at Henness Ridge, a previously-disturbed forested upland site within the park. In turn, the Crane Flat site would be restored to natural forest conditions (one of four historic CCC structures would be repaired and retained; the others documented and removed). Newly constructed park facilities at Henness would be universally accessible and accommodate up to 224 students and 14 campus staff during the school year (reducing students in Yosemite Valley commercial lodging by approximately 100). During summer, the park facility would be available for other educationally focused non-commercial programming, at half occupancy (112, based on environmental limitations). Energy produced on-site (derived from solar sources and ground-source heat pumps) would allow the campus to operate with “zero-net” annual energy consumption. An NPS fire house would be constructed on-site for wildland and structural fire equipment and staff to improve area emergency response capabilities. Under Alternative 3, in a related utilities upgrade project, a new water treatment system would be developed to provide potable water for park visitors and the campus, at Chinquapin (inside a historic garage). Chinquapin rest area serves thousands of park visitors annually, yet currently does not provide potable water, due to an antiquated system that draws surface water from Indian Creek, between Chinquapin and Henness Ridge. Removing this outdated utility system and restoring the site would enable conversion of a 64-acre tract of land at Indian Creek to wilderness status. The existing roadbed (historic route of Glacier Point Road) would be converted to a wilderness trail, thus providing further protection of the corridor as habitat for sensitive plant and wildlife species.

SUPPLEMENTARY INFORMATION: Public scoping began in 2002. Availability of the Draft EIS was noticed in the Federal Register on June 3, 2009. During the public review of the Draft EIS (May 15-July 15, 2009), the NPS held public meetings in Mariposa, Yosemite Valley, and San Francisco; and hosted public site visits at Crane Flat campus and Henness Ridge. The park received 47 public comment letters. These comments have been carefully reviewed and given full consideration in preparation of the Final EIS; all comments received are maintained in the administrative record.

Copies of the Final EIS are being distributed to the general public, sent directly to those who submitted comments, as well as to State and local elected officials, congressional delegations, Tribes, organizations, local businesses, public libraries, Federal agencies, and the media. The Final EIS will be available electronically on the Yosemite National Park Web page at http://www.nps.gov/yose/parkmgmt/eecampus.htm and printed copies may be requested via e-mail request to Yose_Planning@nps.gov (type “YI EEC” in the subject line); by phone (209) 379-1365 (provide name, address with zip code); or by mail, to the Superintendent, Yosemite National Park, Attn: YI EEC, P.O. Box 577, Yosemite, California 95389.

Decision Process: A minimum 30-day no-action period begins with this announcement of the publication and availability of the Final EIS, after which a Record of Decision may be prepared. Notice of approval will be similarly announced in the Federal Register. As a delegated EIS, the official responsible for the final decision is the Regional Director, Pacific West Region; subsequently the official responsible for implementation of any approved project would be the Superintendent, Yosemite National Park.

Dated: December 16, 2009.
Rory D. Westberg,
Acting Regional Director, Pacific West Region.

[FR Doc. 2010-4033 Filed 2-25-10; 8:45 am]

BILLING CODE P